NUCLEAR REGULATORY COMMISSION

[NRC-2019-0189]

Performance Review Boards for Senior Executive Service

AGENCY: Nuclear Regulatory Commission.

ACTION: Appointments.

SUMMARY: The U.S. Nuclear Regulatory Commission (NRC) has announced appointments to the NRC Performance Review Board (PRB) responsible for making recommendations on performance appraisal ratings and performance awards for NRC Senior Executives and Senior Level System employees and appointments to the NRC PRB Panel responsible for making recommendations to the appointing and awarding authorities for NRC PRB members.

DATES: October 8, 2019.

ADDRESSES: Please refer to Docket ID NRC-2019-0189 when contacting the NRC about the availability of information regarding this document. You may obtain publicly-available information related to this document using any of the following methods:

• Federal Rulemaking Website: Go to http://www.regulations.gov and search for Docket ID NRC-2019-0189. Address questions about Docket IDs in Regulations.gov to Jennifer Borges; telephone: 301-287-9127; email: Jennifer.Borges@nrc.gov. For technical questions, contact the individual listed in the FOR FURTHER INFORMATION CONTACT section of this document

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Miriam L. Cohen, Secretary, Executive Resources Board, U.S. Nuclear Regulatory Commission, Washington, DC 20555-0001; telephone: 301-287-0747, email: Miriam.Cohen@nrc.gov.

SUPPLEMENTARY INFORMATION: The following individuals appointed as members of the NRC PRB are responsible for making recommendations to the appointing and awarding authorities on performance appraisal ratings and performance awards for Senior Executives and Senior Level System employees:

Margaret M. Doane, Executive Director for Operations

Marian L. Zobler, General Counsel

Daniel H. Dorman, Deputy Executive Director for Reactor and Preparedness Programs, Office of the Executive Director for Operations

Laura A. Dudes, Regional Administrator, Region-II

Brian E. Holian, Director, Office of Nuclear Security and Incident Response

John W. Lubinski, Director, Office of Nuclear Materials Safety and Safeguards

Nader L. Mamish, Director, Office of International Programs

David J. Nelson, Chief Information Officer

Ho K. Nieh, Director, Office of Nuclear Reactor Regulation

K. Steven West, Deputy Executive Director for Materials, Waste, Research, State, Tribal, Compliance, Administration, and Human Capital Programs, Office of the Executive Director for Operations

Maureen E. Wylie, Chief Financial Officer

The following individuals will serve as members of the NRC PRB Panel that was established to review appraisals and make recommendations to the appointing and awarding authorities for NRC PRB members:

Brooke P. Clark, Director, Deputy General Counsel for Hearings and Administration

Raymond V. Furstenau, Director, Office of Nuclear Regulatory Research

Darrell J. Roberts, Regional Administrator, Region-III

All appointments are made pursuant to Section 4314 of Chapter 43 of Title 5 of the United States Code.

Dated at Rockville, Maryland, this 3rd day of October, 2019.
For the Nuclear Regulatory Commission.
Miriam L. Cohen,
Secretary, Executive Resources Board.

[FR Doc. 2019-21927 Filed 10-7-19; 8:45 am]

BILLING CODE 7590-01-P